DEPARTMENT OF AGRICULTURE

Food Safety and Inspection Service

[Docket No. FSIS-2014-0015]

Codex Alimentarius Commission: Meeting of the Codex Committee on Nutrition and Foods for Special Dietary Uses

AGENCY: Office of the Under Secretary for Food Safety, USDA.

ACTION: Notice of public meeting and request for comments.

SUMMARY: The Office of the Under Secretary for Food Safety, U.S. Department of Agriculture (USDA), and the Food and Drug Administration (FDA), Office of Nutrition, Labeling, and Dietary Supplements are sponsoring a public meeting on October 28, 2014. The objective of the public meeting is to provide information and receive public comments on agenda items and draft United States (U.S.) positions to be discussed at the 36th Session of the Codex Committee on Nutrition and Foods for Special Dietary Uses (CCNFSDU) of the Codex Alimentarius Commission (CODEX), taking place in Bali, Indonesia November 24-28, 2014. The Under Secretary for Food Safety and the FDA recognize the importance of providing interested parties the opportunity to obtain background information on the 36th Session of the CCNFSDU and to address items on the agenda.

DATES: The public meeting is scheduled for October 28, 2014 from 1:00-4:00 p.m.

ADDRESSES: The public meeting will take place at the Harvey Wiley Building, United States Food and Drug Administration, CFSAN, 5100 Paint Branch Parkway, Rooms (1A-001 & 1A002), College Park, MD 20740.

Documents related to the 36th Session of the CCNFSDU will be accessible via the World Wide Web at the following address: http://www.codexalimentarius.org/meetings-reports/en/.

Paula Trumbo, U.S. Delegate to the 36th Session of the CCNFSDU, invites U.S. interested parties to submit their comments electronically to the following email address: CCNFSDU@fda.hhs.gov.

Pre-Registration:To pre-register for this meeting, please email the information listed below to the following email address: CCNFSDU@fda.hhs.gov.

Your name

Organization

Mailing address

Phone number

Email address

Call in Number: If you wish to participate in the public meeting for the 36th Session of the CCNFSDU by conference call, please use call in number and participant code listed below:

Call in Number: 1-866-844-9904.

The participant code will be listed on the Web link below: http://www.fsis.usda.gov/wps/portal/fsis/topics/international-affairs/us-codex-alimentarius/public-meetings.

For Further Information About the 36th Session of the CCNFSDU Contact: Paula Trumbo, Nutrition Programs, Office of Nutrition, Labeling and Dietary Supplements, Center for Food Safety and Applied Nutrition, U.S. Food and Drug Administration, 5100 Paint Branch Parkway, HFS-830, College Park, MD 20740, Phone: (240) 402-2579, Fax: (301) 436-1191, Email: Paula.Trumbo@fda.hhs.gov.

For Further Information About the Public Meeting Contact: Doreen Chen-Moulec, U.S. Codex Office, 1400 Independence Ave. SW., Room 4861, Washington, DC 20250, Phone: (202) 205-7760, Fax: (202) 720-3157, Email: Doreen.Chen-Moulec@fsis.usda.gov.

SUPPLEMENTARY INFORMATION:

Background

Codex was established in 1963 by two United Nations organizations, the Food and Agriculture Organization and the World Health Organization. Through adoption of food standards, codes of practice, and other guidelines developed by its committees, and by promoting their implementation by governments,

The CCNFSDU is responsible for:

(a) Studying specific nutritional problems assigned to it by the Commission and advising the Commission on general nutrition issues;

(b) Drafting general provisions, as appropriate, concerning the nutritional aspects of all foods

(c) Developing standards, guidelines or related texts for foods for special dietary uses, in cooperation with other committees where necessary

(d) Considering, amending if necessary, and endorsing provisions on nutritional aspects proposed for inclusion Codex standards, guidelines and related texts

Issues To Be Discussed at the Public Meeting

The following items on the Agenda for the 36th Session of the CCNFSDU will be discussed during the public meeting:

• Proposed Draft Revision of the Codex General Principles for the Addition of Essential Nutrients to Foods

• Proposal to review the Codex Standard for Follow-up Formula

• Proposed Draft Additional or Revised Nutrient Reference Values for Labelling Purposes in the Codex Guidelines on Nutrition Labelling (values other than protein)

• Proposed Draft Amendment to the Standard for Processing Cereal Based Foods for Infants and Young Children to include a New Part B for Underweight Older infants and Young Children

• Potential NRV for Potassium in relation to the risk of NCD

• Proposed Draft Revision of the List of Food Additives

• Discussion Paper on Biofortification

Each issue listed will be fully described in documents distributed, or to be distributed, by the Secretariat prior to the Meeting. Members of the public may access or request copies of these documents (see ADDRESSES).

Additional Public Notification

FSIS will announce the public meeting on-line through the FSIS Web page located at http://www.fsis.usda.gov/wps/portal/fsis/topics/regulations/federal-register.

FSIS also will make copies of this Federal Register publication available through the FSIS Constituent Update, which provides information on FSIS policies, procedures, regulations, Federal Register notices, FSIS public meetings, recalls, and other types of information that could affect or would be of interest to constituents and stakeholders. The Update is communicated via Listserv, a free electronic mail subscription service for industry, trade and farm groups, consumer interest groups, allied health professionals, and other individuals who have asked to be included. The Update is available on the FSIS Web page. Through the Listserv and Web page, FSIS is able to provide information to a much broader and more diverse audience. In addition, FSIS offers an email subscription service which provides automatic and customized access to selected food safety news and information. This service is available at http://www.fsis.usda.gov/wps/portal/fsis/programs-and-services/email-subscription-service. Options range from recalls to export information to regulations, directives and notices. Customers can add or delete subscriptions themselves, and have the option to password protect their account.

USDA Nondiscrimination Statement

The U.S. Department of Agriculture (USDA) prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at 202-720-2600 (voice and TTY).

To file a written complaint of discrimination, write USDA, Office of the Assistant Secretary for Civil Rights, 1400 Independence Avenue SW., Washington, DC 20250-9410 or call 202-720-5964 (voice and TTY). USDA is an equal opportunity provider and employer.

Done at Washington, DC, on: September 5, 2014.
Mary Frances Lowe,
U.S. Codex Manager.

[FR Doc. 2014-21551 Filed 9-9-14; 8:45 am]

BILLING CODE 3410-DM-P